DEPARTMENT OF COMMERCE

Bureau of Economic Analysis

Annual Survey of Selected Services Transactions with Unaffiliated Foreign Persons

ACTION: Proposed collection; comment request.

SUMMARY: The Department of Commerce, as part of its continuing effort to reduce paperwork and respondent burden, invites the general public and other Federal agencies to comment on proposed and/or continuing information collections, as required by the Paperwork Reduction Act of 1995, Pub. L. 104-13 (44 U.S.C. 3506(c)(2)(A)).

DATES: Written comments must be submitted on or before August 28, 2000.

ADDRESSES: Direct all written comments to Linda Englemeier, Departmental Forms Clearance Officer, Department of Commerce, Room 6086 , 14th and Constitution Avenue, NW, Washington D.C. 20230 or by E-mail to LEngelme@doc.gov.

FOR FURTHER INFORMATION CONTACT: Requests for additional information or copies of the information collection instruments and instructions should be directed to: R. David Belli, U.S. Department of Commerce, Bureau of Economic Analysis, BE-50 (OC), Washington D.C. 20230 (Telephone: 202-606-9800).

SUPPLEMENTARY INFORMATION:

I. Abstract

The Annual Survey of Selected Services Transactions with Unaffiliated Foreign Persons (Form BE-22) obtains reliable and up-to-date information on selected U.S. services transactions with unaffiliated foreign persons. It is intended to update the results of the BE-20, Benchmark Survey of Selected Services Transactions with Unaffiliated Foreign Persons. The BE-20 survey is conducted once every five years, and the last survey covered 1996. A BE-22 survey is conducted each of the four years between the two benchmark surveys; the last BE-22 survey covered 1999. Some of the major purposes of the survey are to provide information needed in formulating U.S. international trade policy on services, supporting bilateral and multilateral trade negotiations and monitoring trade agreements, compiling the U.S. international transactions and national income and product accounts, assessing and promoting U.S. competitiveness in international trade in services, and improving the ability of U.S. businesses to identify and evaluate market opportunities. No changes are being proposed for Form BE-22.

II. Method of Collection

The BE-22 survey must be filed by each U.S. person that had transactions (either sales or purchases) in excess of $1,000,000 with an unaffiliated foreign person in any of the services covered by the survey. If a U.S. person had transactions (either sales or purchases) in the types of services covered by the survey but they were $1,000,000 or less, the U.S. person is requested to voluntarily provide an estimate of the total for each type of service. The data collected are sample data covering the transactions between U.S. persons and unaffiliated foreign persons. Universe estimates are developed from the reported sample.

III. Data

OMB Number: 0608-0060.

Form Number: BE-22.

Type of Review: Regular submission.

Affected Public: Businesses or other for-profit, not-for-profit institutions, farms, and State, Local or Tribal Government.

Estimated Number of Respondents: 1,500 annually.

Estimated Time Per Response: 11.5 hours.

Estimated Total Annual Burden: 17,250 hours.

Estimated Total Annual Cost: $517,500 (based on an estimated reporting burden of 17,250 hours and estimated hourly cost of $30).

Respondent's Obligation: Mandatory.

Legal Authority: Title 22, United States Code, Sections 3101-3108.

IV. Request for Comments

Comments are invited on: (a) Whether the proposed collection of information is necessary for the proper performance of the functions of the agency, including whether the information has practical utility; (b) the accuracy of the agency's estimate of the burden (Including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also become a matter of public record.

Dated: June 22, 2000.
Madeleine Clayton,
Management Analyst, Office of the Chief Information Officer.

[FR Doc. 00-16289 Filed 6-27-00; 8:45 am]

BILLING CODE 3510-06-P